DEPARTMENT OF HEALTH AND HUMAN SERVICES

42 CFR Part 36

Meetings of the Negotiated Rulemaking Committee on Joint Tribal and Federal Self-Governance

AGENCY: Indian Health Service, HHS.

ACTION: Notice of meetings.

SUMMARY: The Secretary of Health and Human Services has established a Negotiated Rulemaking Committee on Joint Tribal and Federal Self-Governance (Committee) to negotiate and develop a proposed rule implementing the Tribal Self-Governance Amendments of 2000 (the Act). We intend to publish the proposed rule for notice and comment no later than one year after the date of enactment of the Act (August 18, 2000 + one year), as required by section 517(a)(2) of the Act.

EFFECTIVE DATES: Meetings of the Committee are as follows:

1. June 11-12, 8:30 a.m.-5:00 p.m.; June 13, 8:30 a.m.-1:00 p.m., St. Paul, MN.

2. July 10-12, 8:30 a.m.-5:00 p.m., Seattle WA,

3. July 30-August 1, 8:30 a.m.-5:00 p.m., Anchorage, AK.

ADDRESSES: The meeting locations are:

1. St. Paul, MN—Radisson City Center, 411 Minnesota St., St. Paul, MN 55101, Phone: 1-800-333-3333.

2. Seattle, WA—Red Lion Hotel in South Center Area, 205 Strander Blvd., Seattle, WA 98188, Phone: 206-575-8220.

3. Anchorage, AK—Hilton Anchorage, 500 West 3rd Avenue, Anchorage, AK 99501, Phone: 1-800-245-2527.

Written statements may be submitted to Paula Williams, Director, Office of Tribal Self-Governance, Indian Health Service, 5600 Fishers Lane, Room 5A-55, Rockville, MD 20857.

FOR FURTHER INFORMATION CONTACT: Paula Williams, Director, Office of Tribal Self-Governance, Indian Health Service, 5600 Fishers Lane, Room 5A-55, Rockville, MD 20857, Telephone 301-443-7821. (This is not a toll-free number.)

SUPPLEMENTARY INFORMATION: All meetings are open to the public without advance registration. Public attendance may be limited to the space available. Members of the public may make statements during the meetings to the extent time permits and file written statements with the Committee for its consideration. Submit your written statements to the address listed above. Summaries of the Committee meetings will be available for public inspection and copying ten days following each meeting at the same address.

Dated: May 14, 2001.
Michel E. Lincoln,
Deputy Director.

[FR Doc. 01-12531 Filed 5-17-01; 8:45 am]

BILLING CODE 4160-16-M